DEPARTMENT OF AGRICULTURE

Forest Service

Helena National Forest Travel Plan, Helena National Forest, Broadwater, Lewis and Clark, Meagher and Powell Counties, Montana

AGENCY: Forest Service, USDA.

ACTION: Notice; intent to prepare Environmental Impact Statement.

SUMMARY: The Forest Service will prepare an Environmental Impact Statement on a proposal to update travel management and approximately 390,000 acres of National Forest lands on the Townsend, Helena and Lincoln Ranger Districts. These 390,000 acres are the remaining lands that have not been subject to recent motorized travel management decisions or have decisions pending. The project covers three separate areas in the Blackfoot, Divide/Little Blackfoot and the South Belts areas. Motorized travel activities in these areas are presently subject to the June 30, 1994 Helena National Forest Travel Plan.

DATES: Comments concerning the proposal and scope of the analysis should be received in writing by January 5, 2001.

ADDRESSES: Send written comments to USDA Forest Service, Helena National Forest, 2880 Skyway Drive, Helena, MT 59601.

FOR FURTHER INFORMATION CONTACT: Charlie Hester, Team Leader, (406) 362-4265.

SUPPLEMENTARY INFORMATION: The current Travel Management Plan for the Helena National Forest was approved in June 1994. Since then, site-specific travel management has been completed or is nearing completion on approximately 500,000 acres. These recent efforts have generally prohibited cross-country motorized travel by restricting motorized vehicles, except snowmobiles, to designated routes. These areas are not affected by this proposal.

The remaining areas that do not have recent decisions or decisions pending are the focus of this proposal. The proposal retains current area and route closures and restrictions except where specific changes are identified. The major change proposed is to limit motorized vehicles, except snowmobiles, to designated Forest Development Road and Forest Developmental trails. Designations will specify the classes of vehicles permitted and the authorized period of use.

Motorized use has increased substantially over most areas in the past 10-15 years as off-highway vehicles have become more stable, maneuverable and powerful and riders have become more skilled. This increased use has resulted in the creation of networks of user-created routes often resulting in undesirable impacts to soils, watersheds, vegetation and wildlife resources. Conflicts between motorized and non-motorized users have also become more common and intense. The intent of this proposal is to provide opportunities for motorized activities without duly impacting other forest resources or uses.

The Forest Service is seeking information and scoping comments from Federal, State and local agencies as well as individuals and organizations that may be interested in, or affected by, the proposed action. The Forest Service invites written comments and suggestions related to the proposal. Information received will be used in preparation of the Draft Environmental Impact Statement. For the most effective use, comments should be submitted to the Forest Service within 30 days from the date of publication of the Notice in the Federal Register.

The Forest Service expects to release a Draft Environmental Impact Statement in August 2001. A Final Environmental Impact Statement and Record of Decision are expected in April 2002.

The comment period on the Draft Environmental Impact Statement will be 45 days from the date the Environmental Protection Agency publishes the notice of availability in the Federal Register.

The Forest Service believes it is important to give reviewers notice at this early stage of several court rulings related to public participation in the environmental review process. First, reviewers of Draft Environmental Impact Statements must structure their participation in the environmental review of the proposal so that it is meaningful and alerts an agency to the reviewer's position and contentions. (Vermont Yankee Nuclear Power Corp. v. NRDC, 435 U.S. 519, 553 (1978).) Also, environmental objections that could be raised at the Draft Environmental Impact Statement stage but that are not raised until after completion of the Final Environmental Impact Statement may be waived or dismissed by the courts. (Wisconsin Heritage, Inc. v. Harris, 490 F. Supp. 1334, 1338 (E.D. Wis. 1980).) Because of these court rulings, it is very important that those interested in this proposed action participate by the close of the 45-day comment period so that substantive comments and objections are made available to the Forest Service at a time when it can meaningfully consider them and respond to them in the Final Environmental Impact Statement.

To assist the Forest Service in identifying and considering issues and concerns on the proposed action, comments on the Draft Environmental Impact Statement should be as specific as possible. It is also helpful if comments refer to specific pages or chapters of the draft statement. Comments may also address the adequacy of the Draft Environmental Impact Statement or the merits of the alternatives formulated and discussed in the statement. (Reviewers may wish to refer to the Council on Environmental Quality Regulations for implementing the procedural provisions of the National Environmental Policy Act at 40 CFR 1503.3 in addressing these points.).

The responsible official is Thomas J. Clifford, Forest Supervisor, Helena National Forest, 2880 Skyway Drive, Helena, MT 59601.

Thomas J. Clifford,
Helena Forest Supervisor.

[FR Doc. 00-30584 Filed 11-30-00; 8:45 am]

BILLING CODE 3410-11-M